Title 3—

The President

Proclamation 10016 of April 29, 2020

Asian American and Pacific Islander Heritage Month, 2020

By the President of the United States of America

A Proclamation

Throughout our Nation's history, Americans of Asian and Pacific Islander descent have made significant contributions to every aspect of our society, from business and politics to literature and the arts. Their accomplishments have enriched our Nation and stand as a testament to the power of the American Dream. During Asian American and Pacific Islander Heritage Month, we celebrate the indelible mark these individuals have left on our culture and pay tribute to the myriad ways in which they continue to strengthen our Nation.

One story among many that exemplifies the values of intelligence, hard work, and determination that Asian Americans and Pacific Islanders have contributed to our Nation is that of An Wang, a Chinese American and pioneer in electronics engineering who helped shape the tech revolution during the latter half of the 20th century as an entrepreneur and innovator. An exceptionally skilled inventor and forward-thinking businessman, Wang held 40 patents and founded Wang Laboratories, one of the most successful American technology companies during the 1980s. Wang Laboratories' products became essential equipment in offices throughout the United States, helping bolster a thriving American economy. Wang also generously gave back to his community, donating his time and resources to the arts, hospitals, higher education, and cultural institutions.

The United States also remains committed to strengthening our ongoing relationships with our Asian and Pacific partners. Last year, I was proud to stand alongside Indian Prime Minister Narendra Modi at an event in Houston, Texas, and earlier this year I made my first official visit to India as a demonstration of our Nation's enduring friendship with one of the world's largest and most diverse countries. During this historic visit, I had the honor of speaking about the importance of the relationship between our two countries before more than 110,000 Indian citizens. The visit also reaffirmed that India and the United States are committed to building a comprehensive global strategic partnership grounded in shared interests and common purpose, benefitting both of our countries.

This month, we recognize the more than 20 million Americans of Asian and Pacific Islander descent who make irreplaceable contributions to our Nation's economy, security, and culture. We are especially grateful for those who have served and are currently serving in our Armed Forces, and those serving their communities as first responders. Together, we will continue to live out the promise of our founding and build a better future for all Americans.

NOW, THEREFORE, I, DONALD J. TRUMP, President of the United States of America, by virtue of the authority vested in me by the Constitution and the laws of the United States, do hereby proclaim May 2020 as Asian American and Pacific Islander Heritage Month. The Congress, by Public Law 102-450, as amended, has also designated the month of May each year as “Asian/Pacific American Heritage Month.” I encourage all Americans to learn more about those of Asian American, Native Hawaiian, and Pacific Islander heritage and to observe this month with appropriate programs and activities.

IN WITNESS WHEREOF, I have hereunto set my hand this twenty-ninth day of April, in the year of our Lord two thousand twenty, and of the Independence of the United States of America the two hundred and forty-fourth.

[FR Doc. 2020-09642

Filed 5-1-20; 11:15 am]

Billing code 3295-F0-P